NUCLEAR REGULATORY COMMISSION

[NRC-2017-0237]

Criteria for Accident Monitoring Instrumentation for Nuclear Power Plants

AGENCY: Nuclear Regulatory Commission.

ACTION: Draft regulatory guide; request for comment.

SUMMARY: The U.S. Nuclear Regulatory Commission (NRC) is issuing for public comment draft regulatory guide (DG), DG-1335, “Criteria for Accident Monitoring Instrumentation for Nuclear Power Plants.” The DG-1335 is proposed revision 5 of regulatory guide (RG) 1.97, (same title), last revised in June 2006 (Revision 4). This guide describes an approach that is acceptable to the staff of the NRC to meet regulatory requirements for instrumentation to monitor accidents in nuclear power plants. It endorses, with clarifications, the Institute of Electrical and Electronic Engineers (IEEE) Standard (Std.) 497-2016, “IEEE Standard Criteria for Accident Monitoring Instrumentation for Nuclear Power Generating Stations.”

DATES: Submit comments by February 26, 2018. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Website: Go to http://www.regulations.gov and search for Docket ID NRC-2017-0237. Address questions about NRC dockets to Carol Gallagher; telephone: 301-415-3463; email: Carol.Gallagher@nrc.gov. For technical questions, contact the individuals listed in the FOR FURTHER INFORMATION CONTACT section of this document.

• Mail comments to: May Ma, Office of Administration, Mail Stop: OWFN-12H08, U.S. Nuclear Regulatory Commission, Washington, DC 20555-0001.

For additional direction on obtaining information and submitting comments, see “Obtaining Information and Submitting Comments” in the SUPPLEMENTARY INFORMATION section of this document.

FOR FURTHER INFORMATION CONTACT: Pong Chung, telephone: 301-415-2363, email: Pong.Chung@nrc.gov; and Stephen Burton, telephone: 301-415-7000, email: Stephen.Burton@nrc.gov. Both are staff members of the Office of Nuclear Regulatory Research, U.S. Nuclear Regulatory Commission, Washington, DC 20555-0001.

SUPPLEMENTARY INFORMATION:

I. Obtaining Information and Submitting Comments

A. Obtaining Information

Please refer to Docket ID NRC-2017-0237 when contacting the NRC about the availability of information regarding this action. You may obtain publically-available information related to this action, by any of the following methods:

• Federal Rulemaking Website: Go to http://www.regulations.gov and search for Docket ID NRC-2017-0237.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG is electronically available in ADAMS under Accession No. ML17083A134. The regulatory analysis for this DG is available in ADAMS under Accession No. ML17083A133.

• NRC's PDR: You may examine and purchase copies of public documents at the NRC's PDR, Room O1-F21, One White Flint North, 11555 Rockville Pike, Rockville, Maryland 20852.

B. Submitting Comments

Please include Docket ID NRC-2017-0237 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled “Criteria for Accident Monitoring Instrumentation for Nuclear Power Plants,” is proposed revision 5 to RG 1.97. The proposed revised RG is temporarily identified by its task number, DG-1335. The DG provides a more technology-neutral approach and brings the regulatory guide more in line with related international standards. This revision introduces a new set of variables for parameters that may be monitored when following severe accident management guidelines. The NRC staff determined that RG 1.97 should be revised to endorse the 2016 version of IEEE Std. 497, with certain exceptions and clarifications, and to make additional clarifying changes to support new reactor license applications, design certifications, and applications for license amendments.

Revising RG 1.97 to endorse the current version of the IEEE consensus standard is in accordance with Section 12(a)(2) of Public Law 104-113, “National Technology Transfer and Advancement Act of 1995,” (codified at 15 U.S.C. 272(b)(3)) and is consistent with the NRC policy of evaluating the latest versions of national consensus standards to determine their suitability for endorsement by regulatory guides. This revision also will comply with the NRC's Management Directive (MD) 6.5, “NRC Participation in the Development and Use of Consensus Standards” (ADAMS Accession No. ML16193A497).

Copies of IEEE documents may be purchased from the Institute of Electrical and Electronics Engineers Service Center, 445 Hoes Lane, PO Box 1331, Piscataway, NJ 08855 or through the IEEE's public website at http://www.ieee.org/publications_standards/index.html.

III. Backfitting and Issue Finality

Draft regulatory guide DG-1335, if finalized as revision 5 to RG 1.97, would endorse, with certain exceptions and clarifications, the 2016 revision of IEEE Std. 497, which contains a more technology-neutral approach and brings current guidance more in line with related international standards. This revision introduces a new set of variables for parameters that may be monitored when following severe accident management guidelines. Applicants and licensees may voluntarily use the guidance in DG-1335, if finalized as revision 5 to RG 1.97, to demonstrate compliance with the underlying NRC regulations. Current licensees may continue to use guidance the NRC found previously acceptable for complying with the identified regulations as long as their current licensing basis remains unchanged. As such, this draft regulatory guide, if finalized, would not constitute backfitting as defined in 10 CFR 50.109 (the Backfit Rule) and is not otherwise inconsistent with the issue finality provisions in 10 CFR part 52, “Licenses, Certifications and Approvals for Nuclear Power Plants.”

Dated at Rockville, Maryland, this 19th day of December 2017.
For the Nuclear Regulatory Commission.
Thomas H. Boyce,
Chief, Regulatory Guidance and Generic Issues Branch, Division of Engineering, Office of Nuclear Regulatory Research.

[FR Doc. 2017-27661 Filed 12-22-17; 8:45 am]

BILLING CODE 7590-01-P